DEPARTMENT OF TRANSPORTATION

Federal Aviation Administration

14 CFR Part 39

[Docket No. 2003-NM-16-AD]

RIN 2120-AA64

Airworthiness Directives; Airbus Model A300 B2 and B4 Series Airplanes

AGENCY: Federal Aviation Administration, DOT.

ACTION: Notice of proposed rulemaking (NPRM).

SUMMARY: This document proposes the supersedure of an existing airworthiness directive (AD), applicable to all Airbus Model A300 B2 and B4 series airplanes, that currently requires determining the part and amendment number of the variable lever arm (VLA) of the rudder control system to verify the parts were installed using the correct standard, and corrective actions if necessary. For certain VLAs, this action would require repetitive inspections for damage, and replacement with a new VLA if necessary. This action would also provide an optional action to replace the VLA with a new VLA, which would constitute terminating action for the repetitive inspections. The actions specified by the proposed AD are intended to prevent failure of both spring boxes of certain VLAs due to corrosion damage, which could result in loss of rudder control and consequent reduced controllability of the airplane. This action is intended to address the identified unsafe condition.

DATES: Comments must be received by June 2, 2004.

ADDRESSES: Submit comments in triplicate to the Federal Aviation Administration (FAA), Transport Airplane Directorate, ANM-114, Attention: Rules Docket No. 2003-NM-16-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-16-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-16-AD.” The postcard will be date stamped and returned to the commenter.

Availability of NPRMs

Any person may obtain a copy of this NPRM by submitting a request to the FAA, Transport Airplane Directorate, ANM-114, Attention: Rules Docket No. 2003-NM-16-AD, 1601 Lind Avenue, SW., Renton, Washington 98055-4056.

Discussion

On October 18, 2001, the FAA issued AD 2001-22-02, amendment 39-12481 (66 FR 54416, October 29, 2001), applicable to all Airbus Model A300 B2 and B4 series airplanes. That AD requires determining the part and amendment numbers of the variable lever arm (VLA) of the rudder control system to verify the parts were installed using the correct standard, and corrective actions if necessary. That action was prompted by reports that, during regularly scheduled maintenance, damage to the VLA of the rudder control system was found. Further investigation revealed that the VLA spring box mountings, the mounting trunnion, and a tie rod also were damaged due to corrosion of the spring boxes. The requirements of that AD are intended to prevent failure of both spring boxes of the VLA due to corrosion damage, which could result in loss of rudder control and consequent reduced controllability of the airplane.

Actions Since Issuance of Previous Rule

Since the issuance of that AD, a new inspection program has been developed by the manufacturer that introduces a repetitive inspection of VLAs that are equipped with spring boxes having certain part numbers.

Explanation of Relevant Service Information

Airbus has issued Service Bulletin A300-27-0196, Revision 01, dated November 13, 2002, which describes procedures for inspecting the VLA to determine the part number (P/N) of the spring box, and for performing repetitive detailed inspections of any VLA that does not have a particular P/N. For any airplane on which any damage is found during any inspection, the service bulletin describes procedures for replacing the VLA with a new VLA. The Direction Générale de l'Aviation Civile (DGAC) classified this service bulletin as mandatory and issued French airworthiness directive 2003-006(B), dated January 8, 2003, to ensure the continued airworthiness of these airplanes in France.

FAA's Conclusions

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 2001-22-02 to continue to require inspection of the VLA of the rudder control system to verify the parts were installed using the correct standard; inspection for damage of the VLA tie rod if the standard is not correct; and replacement with a new VLA, if necessary. This proposed action would require repetitive inspections of VLAs equipped with spring boxes having certain P/Ns. This proposed action would also provide an optional action to replace the VLA with a new VLA, which would constitute terminating action for the repetitive inspections. The actions would be required to be accomplished in accordance with the service bulletin described previously, except as discussed below.

Difference Between the Proposed AD and the Service Bulletin

Operators should note that, although the service bulletin describes procedures for submitting certain information to the manufacturer, and for returning certain VLAs to the manufacturer, this proposed AD would not require those actions.

Explanation of Change to Inspection Definition

We have changed all references to a “detailed visual inspection” in the existing AD to “detailed inspection” in this proposed AD.

Interim Action

This is considered to be interim action until final action is identified, at which time the FAA may consider further rulemaking.

Cost Impact

There are approximately 24 airplanes of U.S. registry that would be affected by this proposed AD.

The actions that are currently required by AD 2001-22-02, and retained in this proposed AD, take approximately 1 work hour per airplane to accomplish, at an average labor rate of $65 per work hour. Based on these figures, the cost impact of the currently required actions on U.S. operators is estimated to be $1,560, or $65 per airplane.

The new actions that would be required by the proposed AD, would take approximately 1 work hour per airplane to accomplish, at an average labor rate of $65 per work hour. Based on these figures, the cost impact of the new in the proposed AD on U.S. operators is estimated to be $1,560, or $65 per airplane, per inspection cycle.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12481 (66 FR 55416, October 29, 2001), and by adding a new airworthiness directive (AD), to read as follows:

Airbus: Docket 2003-NM-16-AD. Supersedes AD 2001-22-02, Amendment 39-12481.

Applicability: All Model A300 B2 and B4 series airplanes, certificated in any category.

Compliance: Required as indicated, unless accomplished previously.

To prevent failure of both spring boxes of the variable lever arm (VLA) due to corrosion damage, which could result in loss of rudder control and consequent reduced controllability of the airplane, accomplish the following:

Restatement of the Requirements of AD 2001-22-02:

(a) Within 10 days after November 13, 2001 (the effective date of AD 2001-22-02, amendment 39-12481): Determine the part and amendment numbers of the VLA of the rudder control system to verify the parts were installed using the correct standard, per Airbus All Operators Telex (AOT) A300-27A0196, dated September 20, 2001; or per the Accomplishment Instructions of Airbus Service Bulletin A300-27-0196, Revision 01, dated November 13, 2002.

(1) If the part and amendment numbers shown are not correct, as specified in the AOT or the service bulletin, before further flight, do a detailed inspection of the VLA tie rod for damage (bent or ruptured rod) per the AOT or the service bulletin.

(i) If the tie rod is damaged, replace the VLA with a new VLA per the AOT or the service bulletin. Such replacement ends the requirements of this paragraph.

(ii) If the tie rod is not damaged, no further action is required by this paragraph.

(2) If the part and amendment numbers shown are correct, no further action is required by this paragraph.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

New Requirements of this AD:

(b) For airplanes having a VLA with any part number (P/N) other than 418473-20 or 418473-200: Within 500 flight hours after the effective date of this AD, do a detailed inspection of the tie rod for damage (bent or ruptured rod), per the Accomplishment Instructions of Airbus Service Bulletin A300-27-0196, Revision 01, dated November 13, 2002. Repeat the inspection thereafter at intervals not to exceed 1,000 flight hours.

Replacement or Repair

(c) If any damage is found to the VLA or the rudder control system during any inspection required by paragraph (a)(1) or (b) of this AD, prior to further flight, replace the VLA with a new VLA (including a follow-up test) per the Accomplishment Instructions of Airbus Service Bulletin A300-27-0196, Revision 01, dated November 13, 2002.

Optional Terminating Action

(d) Replacement of the VLA with a new VLA having P/N 418473-20 or P/N 418473-200 constitutes terminating action for the repetitive inspections in paragraph (b) of this AD.

No Reporting/Parts Return Requirements

(e) Although the referenced service bulletin describes procedures for submitting certain information to the manufacturer, and for returning certain parts to the manufacturer, this AD does not require those actions.

Actions Accomplished per Previous Issue of the Service Bulletin

(f) Actions accomplished before the effective date of this AD per Airbus Service Bulletin A300-27-0196, dated September 20, 2002, are considered acceptable for compliance with the corresponding actions specified in this AD.

Alternative Methods of Compliance

(g) In accordance with 14 CFR 39.19, the Manager, International Branch, FAA, ANM-116, Transport Airplane Directorate, is authorized to approve alternative methods of compliance for this AD.

Note 2: The subject of this AD is addressed in French airworthiness directive 2003-006(B), dated January 8, 2003.

Issued in Renton, Washington, on April 21, 2004.
Kalene C. Yanamura,
Acting Manager, Transport Airplane Directorate, Aircraft Certification Service.

[FR Doc. 04-9904 Filed 4-30-04; 8:45 am]

BILLING CODE 4910-13-P